DEPARTMENT OF THE INTERIOR

Bureau of Land Management

[LLORV00000-L10200000.DD0000; HAG 9-0079]

Meeting Notice for the National Historic Oregon Trail Interpretive Center (NHOTIC) Advisory Board

AGENCY: Bureau of Land Management (BLM), Vale District.

ACTION: Meeting Notice for the National Historic Oregon Trail Interpretive Center (NHOTIC) Advisory Board.

SUMMARY: At the NHOTIC Advisory Board meeting, we will welcome new members, elect new officers, review the mission and vision statements, review the strategic plan, and review the charter and consider other matters that may reasonably come before the Advisory Board.

DATES: The NHOTIC Advisory Board meeting is scheduled for March 13, 2009. The meeting is open to the public. The meeting will take place from 8:30 a.m.to 12:15 p.m. Pacific Standard Time (PST). Public comment is scheduled from 10:50 a.m. to 11:05 a.m. PST, March 13, 2009. For a copy of the information to be distributed to the Council members, please submit a written request to the Vale District Office 10 days prior to the meeting.

ADDRESSES: The meeting will take place at the Best Western Sunridge Inn, One Sunridge Way, Baker City, Oregon.

FOR FURTHER INFORMATION CONTACT: Additional information concerning the NHOTIC Advisory Board meeting may be obtained from Mark Wilkening, Public Affairs Officer, Vale District Office, 100 Oregon Street, Vale, Oregon 97918, (541) 473-6218 or e-mail mark_wilkening@blm.gov.

Dated: February 3, 2009.
David R. Henderson,
District Manager.

[FR Doc. E9-3541 Filed 2-18-09; 8:45 am]

BILLING CODE 4310-33-P